DEPARTMENT OF STATE

[Public Notice: 9154]

Request for Input for Revisions to the “Know Your Rights” Pamphlet, Also Known as the Wilberforce Pamphlet

SUMMARY: The Department of State (“the Department”) is planning to update the “Know Your Rights” pamphlet created by the U.S. government in 2009 pursuant to the William Wilberforce Trafficking Victims Protection Reauthorization Act (Pub. L. 110-457) and requests written recommendations on how the pamphlet could be improved. The pamphlet reaffirms and strengthens the U.S. government's commitment to fight human trafficking and labor abuses, and its purpose is to provide information on the legal rights and resources available to individuals seeking employment- or education-based nonimmigrant visas to the United States. The pamphlet can be found here: http://travel.state.gov/content/visas/english/general/rights-protections-temporary-workers.html. The Department is not seeking to make major changes to the pamphlet as much of the pamphlet's language is mandated in the law and has been translated into numerous languages; however, the Department values feedback on the current pamphlet and recommendations for improvements from stakeholders in the revision process. Submissions must be made in writing to the Office to Monitor and Combat Trafficking in Persons at the Department of State by July 6, 2015. Please refer to the ADDRESSES, Scope of Interest, and Information Sought sections of this Notice for additional instructions on submission requirements.

DATES: Submissions must be received by 5 p.m. on July 6, 2015.

ADDRESSES: Written submissions and supporting documentation may be submitted by the following methods:

• Email (preferred): tipreportUS@state.gov Please use the subject line: Suggestions for Revisions to the “Know Your Rights” Pamphlet.

• Facsimile (fax): 202-312-9637.

• Mail, Express Delivery, Hand Delivery, and Messenger Service: U.S. Department of State, Office to Monitor and Combat Trafficking in Persons (J/TIP), 1800 G Street NW., Suite 2148, Washington, DC 20520. Please note that materials submitted by mail may be delayed due to security screenings and processing.

Scope of Interest: Regarding comments for which the submitter has direct professional experience, that experience should be noted. For any critique or deficiency described, please provide a recommendation to remedy it.

Confidentiality: Please note that any information submitted to the Department may be releasable pursuant to the provisions of the Freedom of Information Act or other applicable law. When applicable, portions of submissions relevant to efforts by other U.S. government agencies may be shared with those agencies.

Response: This is a request for information only; there will be no response to submissions.

Dated: May 26, 2015.
Kari Johnstone,
Acting Director, Office to Monitor and Combat Trafficking in Persons, U.S. Department of State.

[FR Doc. 2015-13441 Filed 6-1-15; 8:45 am]

BILLING CODE 4710-17-P